DEPARTMENT OF COMMERCE

International Trade Administration

North American Free Trade Agreement (NAFTA), Article 1904 NAFTA Binational Panel Reviews; Completion of Panel Review

AGENCY: NAFTA Secretariat, United States Section, International Trade Administration, Department of Commerce.

ACTION: Notice of Completion of Panel Review.

SUMMARY: Pursuant to the Order of the North American Free Trade Agreement (NAFTA) Binational Panel dated March 18, 2014, the panel review of the Department of Commerce's final determination regarding Bottom Mount Combination Refrigerator-Freezers from Mexico was completed on May 1, 2014.

FOR FURTHER INFORMATION CONTACT: Ellen M. Bohon, United States Secretary, NAFTA Secretariat, Suite 2061, 14th and Constitution Avenue NW., Washington, DC 20230, (202) 482-5438.

SUPPLEMENTARY INFORMATION: On March 25, 2014 the binational panel reviewing the U.S. Department of Commerce's final determination concerning Bottom Mount Combination Refrigerator-Freezers from Mexico (NAFTA Secretariat File No. USA-MEX-2012-1904-02) issued an Order granting a Joint Motion to Dismiss Panel Review filed by Samsung Electronics Mexico, S.A. de C.V. and affiliates and LG Electronics Monterrey Mexico, S.A. de C.V. and affiliates and a Motion to Dismiss Panel Review filed by the U.S. Department of Commerce. In its Order, the panel also dismissed as moot the Renewed Motion to Stay filed by Whirlpool Corporation. Pursuant to the panel's Order, the Secretariat was instructed to issue a Notice of Completion of Panel Review on the 31st day following the issuance of the Notice of Final Panel Action, if no request for an Extraordinary Challenge Committee was filed. No such request was filed. Therefore, on the basis of the Panel Order and Rule 80 of the Article 1904 Panel Rules, the Panel Review was completed and the panelists were discharged from their duties effective May 1, 2014.

Dated: May 2, 2014.
Ellen M. Bohon,
United States Secretary, NAFTA Secretariat.

[FR Doc. 2014-10556 Filed 5-7-14; 8:45 am]

BILLING CODE 3510-DR-P